DEPARTMENT OF HEALTH AND HUMAN SERVICES

Agency for Healthcare Research and Quality

Agency Information Collection Activities: Proposed Collection; Comment Request; Correction

AGENCY: Agency for Healthcare Research and Quality (AHRQ), HHS.

ACTION: Notice, correction.

SUMMARY: The Agency for Healthcare Research and Quality published a document in the Federal Register of February 16, 2018 concerning the current use of the AHRQ Quality Indicators (AHRQ QIs) for quality improvement efforts. This document contained an incorrect deadline date.

FOR FURTHER INFORMATION CONTACT: Carla Ladner at 301-427-1205 or AHRQ_Fed_Register@ahrq.hhs.gov.

Correction

In the Federal Register of February 16, 2018, in FR Doc 2018-03243, on page 2, line 1, correct the DATES caption to read:

DATES: Comments on this notice must be received by the deadline on or before March 20, 2018.

Dated: February 22, 2018.
Carla M. Ladner,
Correspondence Analyst/Federal Register Liaison—AHRQ.

[FR Doc. 2018-03964 Filed 2-26-18; 8:45 am]

BILLING CODE 4160-90-P